ENVIRONMENTAL PROTECTION AGENCY

40 CFR Part 63

National Emission Standards for Hazardous Air Pollutants for Source Categories

CFR Correction

In Title 40 of the Code of Federal Regulations, Part 63, §§ 63.1 to 63.599, revised as of July 1, 2014, on page 478, in § 63.343, paragraph (c)(5)(ii) is correctly revised to read as follows:

§ 63.343 Compliance provisions. [Corrected]

* * * * *

(c) * * *

(5) * * *

(ii) On and after the date on which the initial performance test is required to be completed under § 63.7, the owner or operator of an affected source shall monitor the surface tension of the electroplating or anodizing bath. Operation of the affected source at a surface tension greater than the value established during the performance test, or greater than 40 dynes/cm, as measured by a stalagmometer, or 33 dynes/cm, as measured by a tensiometer, if the owner or operator is using this value in accordance with paragraph (c)(5)(i) of this section, shall constitute noncompliance with the standards. The surface tension shall be monitored according to the following schedule:

* * * * *

[FR Doc. 2015-09202 Filed 4-20-15; 8:45 am]

BILLING CODE 1505-01-P